DEPARTMENT OF COMMERCE

National Telecommunications and Information Administration

Agency Information Collection Activities; Submission for OMB Review; Comment Request; NTIA internet Use Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 2, 2023 during a 60-day comment period. This notice allows for an additional 30 days for public comments.

Agency: National Telecommunications and Information Administration, (NTIA), Commerce.

Title: NTIA internet Use Survey.

OMB Control Number: 0660-0021.

Form Number(s): None.

Type of Request: Revision of a current information collection.

Number of Respondents: 50,000 households.

Average Hours per Response: ⅙ hour (10 minutes).

Burden Hours: 8,334.

Needs and Uses: Data from the NTIA internet Use Survey will be used to help inform federal policies related to digital equity and other internet-related issues. As required by law, 47 U.S.C. 1723(d)(3)(A)(i), certain estimates from this data collection will be used as inputs into the State Digital Equity Capacity Grant Program funding formula. More generally, NTIA will use the data both in relevant publications and to help inform policymakers. Additionally, a public use dataset that protects respondent confidentiality will be created by the Census Bureau and made available by both agencies for use by researchers and other members of the public.

Affected Public: Individuals and households.

Frequency: Biennial.

Respondent's Obligation: Voluntary.

Legal Authority: 47 U.S.C. 902(b)(2)(M), (P).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0660-0021.

Sheleen Dumas,
Department PRA Clearance Officer, Office of the Under Secretary for Economic Affairs, Commerce Department.

[FR Doc. 2023-18079 Filed 8-22-23; 8:45 am]

BILLING CODE 3510-60-P